DEPARTMENT OF ENERGY

Federal Energy Regulatory Commission

[Docket Nos. EL23-15-000, ER23-680-000]

Sunfish Solar, LLC v. PJM Interconnection, LLC; Notice of Withdrawal

On February 16, 2023, pursuant to Rule 216 of the Commission's Rules of Practice and Procedure,¹ Sunfish Solar LLC (Sunfish) filed a notice of withdrawal (Notice of Withdrawal) to withdraw its December 12, 2022 complaint in Docket No. EL23-15-000 and its December 16, 2022 petition for limited waiver, motion to consolidate proceedings, and request for expedited review in Docket No. ER23-680-000. Sunfish requests expedited treatment of its Notice of Withdrawal. On February 21, 2023, the Commission issued a notice shortening the answer period for the Notice of Withdrawal to February 22, 2023.

¹ 18 CFR 385.216 (2021).

Sunfish states that PJM Interconnection, L.L.C. (PJM) and Sunfish have resolved all of the issues that were the subject of the complaint and are actively engaged in amending their respective Interconnection Service Agreement (ISA) and Interconnection Construction Service Agreement (ISCA) with Virginia Electric and Power Company (VEPCO) accordingly. Sunfish states that the Notice of Withdrawal is made in good faith based on the current agreement among Sunfish, PJM, and VEPCO regarding the necessary amendments to the ISA and ICSA. Sunfish notes that, to the extent required by the PJM Open Access Transmission Tariff and the Commission's regulations, such amended agreements will be filed with the Commission in the near future. Sunfish states that no party will be prejudiced by its withdrawal of its pleadings in these proceedings.

Upon consideration, notice is hereby given that Sunfish's requested Notice of Withdrawal is granted, effective as of the date of this notice.

Dated: February 23, 2023.
Debbie-Anne A. Reese,
Deputy Secretary.

[FR Doc. 2023-04195 Filed 2-28-23; 8:45 am]

BILLING CODE 6717-01-P